DEPARTMENT OF HOMELAND SECURITY

Coast Guard

33 CFR Part 165

[Docket No. USCG-2024-0852]

Safety Zones; Annual Events in the Captain of the Port Eastern Great Lakes Zone

AGENCY: Coast Guard, DHS.

ACTION: Notification of enforcement of regulation.

SUMMARY: The Coast Guard will enforce a safety zone for the Blazing Paddles Paddlefest 2024 marine event on September 15, 2024. Due to adverse heat conditions on June 22, 2024, the original event was cancelled and has been rescheduled for September 15, 2024. Additionally, the event course on the Cuyahoga River was altered to a reduced scale to accommodate the schedule change. The event course will be between the following positions: 41°29′54.2″ N 081°42′18.1″ W and 41°29′22.2″ N 081°40′52.2″ W. This action is necessary and intended for the safety of life and property on navigable waters during this event. During the enforcement period, no person or vessel may enter the respective safety zone without the permission of the Captain of the Port Eastern Great Lakes or a designated representative.

DATES: The regulations listed in 33 CFR 165.939 Table 165.939, will be enforced for the following event during the date and time indicated below:

(a)(7) Blazing Paddles (Blazing Paddles Paddlefest 2024)—from 10:00 a.m. through 3:00 p.m. on September 15, 2024.

FOR FURTHER INFORMATION CONTACT: If you have questions about this notice of enforcement, call or email Petty Officer Cody Mayrer at Marine Safety Unit Cleveland's Waterways Management Division; telephone 216-937-0111, email D09-SMB-MSUCLEVELAND-WWM@uscg.mil

SUPPLEMENTARY INFORMATION: The Coast Guard will enforce this safety zone for the Blazing Paddles annual event in the Captain of the Port Eastern Great Lakes Zone listed in 33 CFR 165.939, Table 165.939. Pursuant to 33 CFR 165.23, entry into, transiting, or anchoring within this safety zone during the enforcement period is prohibited unless authorized by the Captain of the Port Eastern Great Lakes or his designated representative. Those seeking permission to enter the safety zone may request permission from the Captain of Port Eastern Great Lakes via channel 16, VHF-FM. Vessels and persons granted permission to enter the safety zone shall obey the directions of the Captain of the Port Eastern Great Lakes or his designated representative. While within a safety zone, all vessels shall operate at the minimum speed necessary to maintain a safe course.

This notice of enforcement is issued under authority of 33 CFR 165.939 and 5 U.S.C. 552(a). In addition to this notice of enforcement in the Federal Register, the Coast Guard will provide the maritime community with advance notification of this enforcement period via Broadcast Notice to Mariners or Local Notice to Mariners. If the Captain of the Port Eastern Great Lakes determines that the safety zone need not be enforced for the full duration stated in this notice, the Broadcast Notice to Mariners will be cancelled. This notification is being issued by the Coast Guard Sector Eastern Great Lakes Prevention Department Head at the direction of the Captain of the Port.

Dated: September 9, 2024.
J.B. Bybee,
Commander, U.S. Coast Guard, Sector Eastern Great Lakes Prevention Department Head.

[FR Doc. 2024-21008 Filed 9-13-24; 8:45 am]

BILLING CODE 9110-04-P